NEIGHBORHOOD REINVESTMENT CORPORATION

Neighborworks® America; Regular Meeting of the Board of Directors; Sunshine Act

Time and Date: 2 p.m. Wednesday, March 28, 2007.

Place: 1325 G Street, NW., Suite 800, Boardroom, Washington, DC 20005.

Status: Open.

For Further Information Contact: Jeffrey T. Bryson, General Counsel/Secretary, (202) 220-2372; jbryson@nw.org.

Agenda

I. Call to Order.

II. Approval of the Minutes.

III. Summary Report of the Audit Committee.

IV. Summary Report of the Corporate Administration Committee.

V. Summary Report of the Finance, Budget and Program Committee.

VI. Summary Report of the Audit Committee.

VII. Financial Report.

VIII. Revised Delegation of Authority to CEO.

IX. Chief Executive Officer's Quarterly Management Report.

X. Multifamily Initiative Presentation.

XI. Adjournment.

Jeffrey T. Bryson,
General Counsel/Secretary.

[FR Doc. 07-1460 Filed 3-21-07; 1:50 pm]

BILLING CODE 7570-02-M